ENVIRONMENTAL PROTECTION AGENCY

[FRL-6531-9]

Proposed CERCLA Administrative Cost Recovery Settlement; Eagle-Picher Industries, Inc.

AGENCY: Environmental Protection Agency.

ACTION: Notice; request for public comment.

SUMMARY: In accordance with Section 112(h) of the Comprehensive Environmental Response, Compensation, and Liability Act, as amended (“CERCLA”), 42 U.S.C. 9622(h), notice is hereby given of a proposed administrative settlement for recovery of past response costs concerning the Former Witter Company site in Asbury, Missouri with the following settling party: Eagle-Picher Industries, Inc. The settlement requires the settling party to pay $796,595.59 to the Hazardous Substance Superfund. Eagle-Picher Industries, Inc., the settling party filed for bankruptcy in 1991. Under a reorganization plan, allowed claims will be paid on a 33 cents per dollar basis, and it is on that basis that reimbursement will be made to the Hazardous Substance Superfund in the amount of $262,876.54. The settlement includes a covenant not to sue the settling party pursuant to Section 107(a) of CERCLA, 42 U.S.C. 9607(a). For thirty (30) days following the date of publication of this notice, the Agency will receive written comments relating to the settlement. The Agency will consider all comments received and may modify or withdraw its consent to the settlement if comments received disclose facts or considerations which indicate that the settlement is in appropriate, improper, or inadequate. The Agency's response to any comments received will be available for public inspection at Web City Free Public Library, 101 S. Liberty Street, Webb City, Missouri, and Office of Regional Hearing Clerk, EPA, 901 North 5th Street, Kansas City, KS 66101.

DATES: Comments must be submitted on or before March 6, 2000.

ADDRESSES: The proposed settlement and a fact sheet providing additional background information relating to the settlement are available for public inspection at Office of Regional Hearing Clerk, Environmental Protection Agency, 901 N. 5th Street, Kansas City, KS 66101. A copy of the proposed settlement may be obtained from Kathy Robinson, Regional Hearing Clerk, EPA, 901 N. 5th Street, Kansas City, KS 66101, telephone 913-551-7567. Comments should reference the Former Witter Company Site, Asbury, Missouri, Docket No. CERCLA-7-2000-0003 and should be addressed to Regional Hearing Clerk, EPA, 901 N. 5th Street, Kansas City, KS 66101.

FOR FURTHER INFORMATION CONTACT: Kristina Gonzales, Assistant Regional Counsel, EPA, 901 N. 5th Street, Kansas City, KS 66101, telephone: 913-551-7245.

Dated: January 20, 2000.
Dennis Grams, P.E.,
Regional Administrator, Region VII.

[FR Doc. 00-2280 Filed 2-2-00, 8:45 am]

BILLING CODE 6560-50-M